DEPARTMENT OF TRANSPORTATION

Surface Transportation Board

[Docket No. FD 35878]

R Bult Rail Lines, LLC—Lease and Operation Exemption—Rail Line of Marigold Land Company, LLC

R Bult Rail Lines, LLC (RBRL), a noncarrier, has filed a verified notice of exemption under 49 CFR 1150.31 to lease from Marigold Land Company, LLC (Marigold) and operate an approximately 0.46-mile railroad right-of-way and trackage currently owned by Marigold in Chicago, Ill.¹

¹ RBRL states the trackage does not have any milepost numbers.

According to RBRL, the lease does not contain any interchange commitments.² RBRL states that the trackage is used in conjunction with interchanging to and from Canadian National Railway Company, carloads of inbound sugars and corn sweetener for transloading into trucks for final delivery, and that the track also provides service to industry located on an adjoining parcel.

² By letter filed November 25, 2014, RBRL supplemented its notice of exemption and stated there are no interchange commitments on the trackage. See 49 CFR 1150.33(h).

RBRL certifies that its projected revenues from of this transaction do not exceed those that would qualify it as a Class III rail carrier and RBRL states that this transaction will not result in the production of revenues in excess of $5 million.³

³ By letter filed December 5, 2014, RBRL supplemented its notice of exemption and stated that this transaction will not result in the production of revenues in excess of $5 million.

The effective date of this exemption is January 4, 2015. (30 days after the verified notice was filed).⁴ RBRL intends to consummate the proposed transaction on or about January 1, 2015. But the earliest the transaction may be consummated is after the January 4, 2015 effective date of the exemption.

⁴ Because, as noted, RBRL supplemented its verified notice on December 5, 2014, that date is considered the filing date of the verified notice.

If the verified notice contains false or misleading information, the exemption is void ab initio. Petitions to revoke the exemption under 49 U.S.C. 10502(d) may be filed at any time. The filing of a petition to revoke will not automatically stay the effectiveness of the exemption. Petitions to stay must be filed by December 26, 2014 (at least seven days prior to the date the exemption becomes effective).

An original and ten copies of all pleadings, referring to Docket No. FD 35878, must be filed with the Surface Transportation Board, 395 E Street SW., Washington, DC 20423-0001. In addition, a copy of each pleading must be served on applicant's representative, David C. Dillon, Dillon & Nash, Ltd., Attorneys at Law, 111 West Washington Street, Suite 1023, Chicago, IL 60602.

Board decisions and notices are available on our Web site at “WWW.STB.DOT.GOV.”

Decided: December 15, 2014.
By the Board, Rachel D. Campbell, Director, Office of Proceedings.
Raina S. White,
Clearance Clerk.

[FR Doc. 2014-29768 Filed 12-18-14; 8:45 am]

BILLING CODE 4915-01-P